DEPARTMENT OF COMMERCE

National Oceanic and Atmospheric Administration

[XRIN: 0648-XA27]

Gulf of Mexico Fishery Management Council (Council); Public Meetings

AGENCY: National Marine Fisheries Service (NMFS), National Oceanic and Atmospheric Administration (NOAA), Commerce.

ACTION: Notice of public meetings.

SUMMARY: The Gulf of Mexico Fishery Management Council (Council) will convene public meetings.

DATES: The meetings will be held June 4 - 7, 2007.

ADDRESSES: The meetings will be held at the W New Orleans, 333 Poydras St., New Orleans, LA 70130; telephone: (504) 525-9444.

Council address: Gulf of Mexico Fishery Management Council, 2203 North Lois Avenue, Suite 1100, Tampa, FL 33607.

FOR FURTHER INFORMATION CONTACT: Wayne E. Swingle, Executive Director, Gulf of Mexico Fishery Management Council; telephone: (813) 348-1630.

SUPPLEMENTARY INFORMATION:

Council

Wednesday, June 6, 2007

11 a.m. - The Council meeting will begin with a review the agenda and minutes. Public testimony on exempted fishing permits (EFPs), if any, Final Reef Fish Amendment 27/Shrimp 14, and Final Vermilion Snapper Regulatory Amendment 14 and Open Public Comment Period regarding any fishery issue or concern will be from 11:15 a.m. - 12 p.m. and 1:30 - 5:30 p.m. People wishing to speak before the Council should complete a public comment card prior to the comment period.

Thursday, June 7, 2007

The Council will review and discuss reports from the previous two days' committee meetings as follows:

8:30 a.m. - 8:45 a.m. - Joint Reef Fish/Mackerel/Red Drum;

8:45 a.m. - 9:15 a.m. - Administrative Policy;

9:15 a.m. - 9:45 a.m. - Mackerel Management;

9:45 a.m. - 10:15 a.m. - Data Collection;

10:15 a.m. - 10:30 a.m. - Budget/Personnel;

10:30 a.m. - 12:30 p.m. - Joint Reef Fish/Shrimp Management;

2 p.m. - 3:30 p.m. - Reef Fish Management;

3:30 p.m. - 3:45 p.m. - Report of the Closed Council Meeting Conference Call;

3:45 p.m. - 4:15 p.m. - The Council will conclude its meeting by discussing Other Business items.

Committees

Monday, June 4, 2007

1 p.m. - 3 p.m. - The Joint Reef Fish/Mackerel/Red Drum Management Committee will meet to approve a public hearing draft of the Generic Offshore Aquaculture Amendment.

3 p.m. - 5 p.m. - The Administrative Policy Committee will meet to consider NMFS recommendations for Annual Catch Limits (ACL), Accountability Measures (AM), and the Scientific and Statistical Commitee (SSC) charges in Magnuson-Stevens Reauthorization Act (MSRA).

Tuesday June 5, 2007

8:30 a.m. - 9:30 a.m. - The Mackerel Management Committee will meet to consider actions recommended by the Joint Special Mackerel Group.

9:30 a.m. - 11 a.m. - The Data Collection Committee will meet to hear a report on the progress of the National Committee on Recreational Data Surveys.

11 a.m. - 11:30 a.m. - The Budget/Personnel Committee will meet to consider the issue of increasing the liaison grant to the states.

1 p.m. - 4:30 p.m. - The Joint Reef Fish/Shrimp Management Committee will meet to hear summaries of public hearings and reports of SSC and Advisory Panels (APs) on draft Reef Fish 27/Shrimp 14 Amendment and to develop their recommendations to the Council.

4:30 p.m. - 5:30 p.m. - The Reef Fish Management Committee will meet to recommend actions on Reef Fish Amendment 30, Part A and B, addressing overfishing of Reef Fish stocks and the Regulatory Amendment for Vermilion Snapper.

6 p.m. - 8 p.m. - NOAA Fisheries Service and Gulf Council staff will hold an open public forum/question and answer session on Gulf Reef Fish. This forum, while not a public hearing, will provide the public an opportunity to ask questions and discuss Gulf Reef Fish science and management issues in a less formal setting intended to increase dialogue between constituents and fishery managers.

Wednesday, June 6, 2007

8:30 a.m. - 11 a.m. - The Reef Fish Management Committee continues to meet.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Tina Trezza at the Council (see ADDRESSES) at least 5 working days prior to the meeting.

Dated: May 10, 2007.
Tracey L. Thompson,
Acting Director, Office of Sustainable Fisheries, National Marine Fisheries Service.

[FR Doc. E7-9254 Filed 5-14-07; 8:45 am]

BILLING CODE 3510-22-S